DEPARTMENT OF DEFENSE

Department of the Army; Corps of Engineers

Notice of Intent To Prepare a Draft Environmental Impact Statement (EIS) for the Central Palm Beach County Comprehensive Erosion Control Project in Palm Beach County, FL

AGENCY: U.S. Army Corps of Engineers, Jacksonville District, DoD.

ACTION: Notice of Intent (NOI).

SUMMARY: The U.S. Army Corps of Engineers (Corps), Jacksonville District, intends to prepare a Draft Environmental Impact Statement (EIS) to address potential impacts associated with the construction of groins and segmented emergent breakwaters and placement of truck hauled sand along the coastline of the Towns of Palm Beach, South Palm Beach, Lantana, and Manalapan. The Corps will be evaluating a Department of the Army permit for the work under Section 10 of the Rivers and Harbors Act and Section 404 of the Clean Water Act. As part of the permit process, the Corps is evaluating the environmental effects associated with construction of the breakwaters and groins and the sand placement. The Palm Beach County Department of Environmental Resources Management (County) is the permit applicant seeking to implement the Proposed Action.

The primary Federal involvement associated with the Proposed Action is the discharge of fill within Waters of the United States and the construction of breakwaters and groins within Navigable Waters of the United States. Because of the extensive hardbottom resources immediately adjacent to the beach, the high recreational uses of the project area, the potential to cause down drift erosion, and other environmental impacts including potential adverse effects to Federally listed species, the Corps will prepare an EIS in compliance with the National Environmental Policy Act (NEPA) to render a final decision on the County's permit application. The Corps' decision will be to either issue or deny a Department of the Army permit for the Proposed Action. The Draft EIS is intended to be sufficient in scope to address Federal, State, and local requirements and environmental issues concerning the Proposed Action and permit reviews.

DATES: A public scoping workshop will be held on, or about, May 27, 2010 from 4:30 p.m. to 8 p.m. EST.

ADDRESSES: The public scoping workshop will be held at the Town of South Palm Beach Town Hall, 3577 South Ocean Boulevard, South Palm Beach, Florida. The workshop will give agencies and the public an opportunity to receive more information on the Proposed Action, alternatives, and to provide comments and suggestions on the scope of the EIS.

FOR FURTHER INFORMATION CONTACT: Questions about the Proposed Action and Draft EIS should be directed to Mr. Eric Reusch, Corps Regulatory Project Manager, by telephone at (561) 472-3529 or by e-mail at Eric.G.Reusch@usace.army.mil. Written comments should be addressed to the U.S. Army Corps of Engineers, Attn: Mr. Eric Reusch, 4400 PGA Boulevard, Suite 500, Palm Beach Gardens, Florida 34410 or by facsimile at (561) 626-6971.

SUPPLEMENTARY INFORMATION: a. Project Site and Background Information. The study area comprises approximately 1.3 miles of shoreline and nearshore environment within four municipalities including the Town of Palm Beach, Town of South Palm Beach, Town of Lantana, and Town of Manalapan. The northern limit of the project is located at Florida Department of Environmental Protection (FDEP) monument R132 (Town of Palm Beach) and extends south to the Ritz Carlton Hotel (R138+400′) located in Manalapan. The shoreline in this area has experienced long-term erosion, and waves have impacted the coastal armoring during major storms. Existing structural armoring in the project area includes rock revetments, concrete seawalls, steel sheet pile walls, a small wood retaining structure, a concrete ramp, and a concrete waffle revetment. Erosion currently threatens the structural integrity of several buildings within the project reach. The County has nourished the project area dune toes on several occasions and has planted native dune vegetation at several locations. Due to the narrow beach profile, much of this effort has been lost to erosion.

b. Purpose and Need. The overall project purpose is to stabilize and restore the shoreline adjacent to the Towns of Palm Beach, South Palm Beach, Lantana, and Manalapan.

c. Proposed Action. Palm Beach County proposes to construct 18 emergent breakwaters placed parallel to the shoreline at a depth of about −8 feet. The breakwaters would be located seaward of the nearshore hardbottom and landward of the offshore hardbottom. In addition, a series of four short groins are proposed for the Lantana Municipal Beach. Construction of these structures would help maintain sand on the beach by reducing the amount of wave energy reaching the shoreline. The project also proposes elevating the existing berm with the placement of truck-hauled sand in order to offset any potential impacts to downdrift beaches from capture of sand by the breakwaters and groins.

d. Alternatives. An evaluation of alternatives to the Proposed Action initially being considered includes a “no action” alternative, beach nourishment and dune restoration through filling activities, groins, segmented submerged breakwaters, upland coastal structural reinforcement/replacement, and combinations of these alternatives, as well as analyzing other reasonable alternatives developed through the project scoping process.

e. Draft EIS Scoping Process. The Corps is furnishing this notice to advise other Federal and State agencies, affected Federally recognized Tribes, and the public of our intentions. This notice announces the initiation of a 30-day scoping period which requests the public's involvement in the scoping and evaluation process of the DEIS. Stakeholders will be notified through advertisements, public notices and other means. All parties who express interest will be given an opportunity to participate in this process. The process allows the Corps to obtain suggestions and information on the scope of issues and an opportunity to provide reasonable alternatives to be included in the Draft EIS. The Corps invites comments from all interested parties to ensure that all significant issues are identified and the full range of issues related to the permit request are addressed. We will accept written comments until 30 days after the date of publication of this notice. (See DATES and ADDRESSES.)

f. Significant Issues. The DEIS will analyze the following: Aesthetics/visual quality, agricultural resources, air quality, biological resources, cultural resources, cumulative impacts, environmental justice, flood protection, geology/soils, growth inducement, land use/planning, noise/vibration, public health and safety, public services/utilities, recreation, socioeconomics, threatened and endangered species, traffic/circulation, water resources including wetlands, and other issues identified through scoping, public involvement, and interagency coordination. The Corps will conduct an environmental review of the Proposed Action in accordance with the requirements of NEPA, 1969 as amended, (42 U.S.C. 4321 et seq.) and its implementing regulations (40 Code of Federal Regulations, Section 1500 et seq.), Corps Procedures for Implementing NEPA (33 Code of Federal Regulations, Section 230 et seq.), NEPA Implementation Procedures for the Regulatory Program (33 Code of Federal Regulations, Section 325, Appendix B), and with other appropriate Federal laws and regulations, policies, and procedures of the Corps for compliance with those regulations. The Proposed Action, through the Corps permit review process, will require consultation under Section 7 of the Endangered Species Act and the Magnunson-Stevens Fishery Conservation and Management Act. Additionally, the proposed action would involve evaluation for compliance with the Section 404(b) (1) Guidelines of the Clean Water Act; Section 106 of the National Historic Preservation Act; Water Quality Certification pursuant to Section 401 of the Clean Water Act; certification of State lands, easements and right of ways; and determination of Coastal Zone Management Act consistency.

g. Availability of the Draft EIS (DEIS). The Corps currently expects the DEIS to be made available to the public on or about January 2011. A public meeting will be held during the public comment period for the DEIS. Written comments will be accepted at the meeting.

Donald W. Kinard,
Chief, Regulatory Division, Jacksonville District.

[FR Doc. 2010-10236 Filed 4-30-10; 8:45 am]

BILLING CODE 3720-58-P